ENVIRONMENTAL PROTECTION AGENCY

[EPA-HQ-OPP-2015-0386; FRL-9937-03]

Pesticide Registration Review; Draft Human Health and Ecological Risk Assessments for Sulfonylureas; Notice of Availability and Request for Comment; Extension of Comment Period

AGENCY: Environmental Protection Agency (EPA).

ACTION: Notice; extension of comment period.

SUMMARY: EPA issued a notice in the Federal Register of September 25, 2015, concerning the publication of draft human health and ecological risk assessments for the registration review of 22 sulfonylurea chemicals and certain other non-sulfonylurea chemicals. This document extends the comment period for 30 days for only the chemicals listed in the Table in this document, from November 24, 2015 to December 24, 2015. The comment period is being extended in response to comments received by the Agency requesting additional time to review the sulfonylurea risk assessment documents.

DATES: Comments, identified by docket identification (ID) numbers in the Table must be received on or before December 24, 2015.

ADDRESSES: Follow the detailed instructions provided under ADDRESSES in the Federal Register document of September 25, 2015 (80 FR 57812) (FRL-9933-68).

FOR FURTHER INFORMATION CONTACT: Persons listed with individual chemicals in the Table.

SUPPLEMENTARY INFORMATION: This document extends the public comment period established in the Federal Register document of September 25, 2015 (80 FR 57812) (FRL-9933-68). In that document, a public comment period opened on EPA's draft human health and ecological risk assessments for the registration review of certain members of a group of pesticides known collectively as sulfonylureas, as well as various non-sulfonylurea chemicals. This extension on the comment period is being requested for the sulfonylurea chemicals listed in the Table, rather than all the chemicals that were included in the document that published in the Federal Register of September 25, 2015. EPA is extending the comment period, which was set to end on November 24, 2015, to December 24, 2015.

Table—Chemicals With Extended Comment Periods
Registration review case name and No. | Docket ID No. | Chemical review manager and contact information
Bensulfuron-methyl, 7216 | EPA-HQ-OPP-2011-0663 | Moana Appleyard, appleyard.moana@epa.gov, (703) 308-8175.
Chlorimuron-ethyl, 7403 | EPA-HQ-OPP-2010-0478 | Wilhelmena Livingston, livingston.wilhelmena@epa.gov, (703) 308-8025.
Chlorsulfuron, 0631 | EPA-HQ-OPP-2012-0878 | Miguel Zavala, zavala.miguel@epa.gov, (703) 347-0504.
Flazasulfuron, 7271 | EPA-HQ-OPP-2011-0994 | Ricardo Jones, jones.ricardo@epa.gov, (703) 347-0493.
Foramsulfuron, 7252 | EPA-HQ-OPP-2012-0387 | Jose Gayoso, gayoso.jose@epa.gov, (703) 347-8652.
Halosulfuron-methyl, 7233 | EPA-HQ-OPP-2011-0745 | Brittany Pruitt, pruitt.brittany@epa.gov, (703) 347-0289.
Imazosulfuron, 7281 | EPA-HQ-OPP-2015-0625 | Caitlin Newcamp, newcamp.caitlin@epa.gov, (703) 347-0325.
Iodosulfuron-methyl-sodium, 7253 | EPA-HQ-OPP-2012-0717 | Katherine St. Clair, stclair.katherine@epa.gov, (703) 347-8778.
Mesosulfuron-methyl, 7277 | EPA-HQ-OPP-2012-0833 | Jolene Trujillo, trujillo.jolene@epa.gov, (303) 312-6579.
Metsulfuron-methyl, 7205 | EPA-HQ-OPP-2011-0375 | Katherine St. Clair, stclair.katherine@epa.gov, (703) 347-8778.
Nicosulfuron, 7227 | EPA-HQ-OPP-2012-0372 | Miguel Zavala, zavala.miguel@epa.gov, (703) 347-0504.
Orthosulfamuron, 7270 | EPA-HQ-OPP-2011-0438 | Khue Nguyen, nguyen.khue@epa.gov, (703) 347-0248.
Primisulfuron-methyl, 7220 | EPA-HQ-OPP-2011-0844 | Christina Scheltema, scheltema.christina@epa.gov, (703) 308-2201.
Prosulfuron, 7235 | EPA-HQ-OPP-2011-1010 | Wilhelmena Livingston, livingston.wilhelmena@epa.gov, (703) 308-8025.
Rimsulfuron, 7218 | EPA-HQ-OPP-2012-0178 | Jose Gayoso, gayoso.jose@epa.gov, (703) 347-8652.
Sulfometuron-methyl, 3136 | EPA-HQ-OPP-2012-0433 | Caitlin Newcamp, newcamp.caitlin@epa.gov, (703) 347-0325.
Sulfosulfuron, 7247 | EPA-HQ-OPP-2011-0434 | Kelly Ballard, ballard.kelly@epa.gov, (703) 305-8126.
Thifensulfuron-methyl, 7206 | EPA-HQ-OPP-2011-0171 | Brittany Pruitt, pruitt.brittany@epa.gov, (703) 347-0289.
Triasulfuron, 7221 | EPA-HQ-OPP-2012-0115 | Margaret Hathaway, hathaway.margaret@epa.gov, (703) 305-5076.
Tribenuron-methyl, 7217 | EPA-HQ-OPP-2010-0626 | Brittany Pruitt, pruitt.brittany@epa.gov, (703) 347-0289.
Trifloxysulfuron-Sodium, 7208 | EPA-HQ-OPP-2013-0409 | Kelly Ballard, ballard.kelly@epa.gov, (703) 305-8126.
Triflusulfuron-methyl, 7236 | EPA-HQ-OPP-2012-0605 | Matthew Manupella, manupella.matthew@epa.gov, (703) 347-0411.

To submit comments, or access the docket, please follow the detailed instructions provided under ADDRESSES in the Federal Register document of September 25, 2015. If you have questions on individual chemicals, consult the person listed in the Table.

Authority: 7 U.S.C. 136 et seq.

Dated: November 13, 2015.
Michael Goodis,
Acting Director, Pesticide Re-Evaluation Division, Office of Pesticide Programs.

[FR Doc. 2015-29689 Filed 11-19-15; 8:45 am]

BILLING CODE 6560-50-P